DEPARTMENT OF HEALTH AND HUMAN SERVICES

Centers for Disease Control and Prevention

National Institute for Occupational Safety and Health Meeting

The National Institute for Occupational Safety and Health (NIOSH) of the Centers for Disease Control and Prevention (CDC) announces the following meeting:

Name: Initial Discussions for Concepts of Total Inward Leakage (TIL) Requirements and Test Methods for Halfmask Respirators Including Elastomeric and Filtering Facepiece Styles.

Date and Time: 9 a.m.-5 p.m., August 25, 2004.

Place: Marriott Key Bridge Hotel located at 1401 Lee Highway, Arlington, Virginia.

Status: This meeting is hosted by NIOSH and will be open to the public, limited only by the space available. The meeting room will accommodate approximately 50 people. Sleeping Rooms are reserved under a NIOSH/National Personal Protective Technology Laboratory (NPPTL) Public Meeting room block for the evening of Tuesday, August 24, 2004, at the government rate of $150 per night. The NIOSH/NPPTL public meeting must be referenced to receive this special rate. Interested parties should make hotel reservations directly with the Marriott at 1-800-228-9290 or 703/524-6400 before the cut-off date of August 4, 2004. Interested parties should confirm their attendance to this meeting by completing a registration form and forwarding it by e-mail (npptlevents@cdc.gov) or fax (304-285-4459) to the NPPTL Event Management Office. A registration form may be obtained from the NIOSH Homepage (www.cdc.gov/niosh) by selecting conferences and then the event.

An opportunity to make presentations regarding the discussions of concepts for standards and testing processes for TIL requirements and test methods suitable for halfmask respirators will be given. Requests to make such presentations at the public meeting should be made by e-mail or the NPPTL Event Management Office (npptlevents@cdc.gov). All requests to present should include the name, address, telephone number, relevant business affiliations of the presenter, a brief summary of the presentation, and the approximate time requested for the presentation. Oral presentations should be limited to 15 minutes.

After reviewing the requests for presentations, NPPTL Event Management will notify each presenter of the approximate time that their presentation is scheduled to begin. If a participant is not present when their presentation is scheduled to begin, the remaining participants will be heard in order. At the conclusion of the meeting, an attempt will be made to allow presentations by any scheduled participants who missed their assigned times. Attendees who wish to speak but did not submit a request for the opportunity to make a presentation may be given this opportunity at the conclusion of the meeting, at the discretion of the presiding officer.

Comments on the topics presented in this notice and at the meeting should be mailed to the NIOSH Docket Office, Robert A. Taft Laboratories, M/S C34, 4676 Columbia Parkway, Cincinnati, Ohio 45226, Telephone 513-533-8303, Fax 513-533-8285. Comments may also be submitted by e-mail to niocindocket@cdc.gov. E-mail attachments should be formatted in Microsoft Word. Comments should be submitted to Niosh no later than September 25, 2004, and should reference Docket Number NIOSH\036 in the subject heading.

Purpose: NIOSH will initiate discussions of conceptual standards and testing processes for TIL requirements and test methods suitable for halfmask respirators. NIOSH also wishes to obtain comments from individuals regarding the tentative schedules and priorities for future TIL respirator and other personal protective equipment standards development efforts. NIOSH will present information to attendees concerning the concept development for the overall TIL program and the initial concept for TIL testing for halfmask respirator testing and certification requirements. Participants will be given an opportunity to ask questions on these topics and to present individual comments for consideration. Interested participants may obtain a copy of the TIL concept paper from the NIOSH NPPTL web site, address: www.cdc.gov/niosh/npptl. The April 20, 2004, concept paper will be used as the basis for discussion at the public meeting. NIOSH wishes to obtain comments from individuals regarding the priorities for future standards efforts following the completion of the halfmask TIL standard.

For Further Information Contact: NPPTL Event Management, 3610 Collins Ferry Road, P.O. Box 880, Morgantown, West Virginia 26507-0880, Telephone 304-285-4750, Fax 304-285-4459, E-mail npptlevents@cdc.gov.

The Director, Management Analysis and Services Office, has been delegated the authority to sign Federal Register Notices pertaining to announcements of meetings and other committee management activities, for both CDC and the Agency for Toxic Substances and Disease Registry.

Dated: July 7, 2004.
Alvin Hall,
Director, Management Analysis and Services Office, Centers for Disease Control and Prevention.

[FR Doc. 04-15799 Filed 7-12-04; 8:45 am]

BILLING CODE 4163-19-M